DEPARTMENT OF ENERGY

Federal Energy Regulatory Commission

Combined Notice of Filings #2

Take notice that the Commission received the following electric rate filings:

Docket Numbers: ER15-697-002.

Applicants: Tonopah Solar Energy, LLC.

Description: Notification of Change in Facts of Tonopah Solar Energy, LLC.

Filed Date: 1/27/17.

Accession Number: 20170127-5132.

Comments Due: 5 p.m. ET 2/17/17.

Docket Numbers: ER16-2297-003; ER16-2506-001.

Applicants: Osborn Wind Energy, LLC, Oliver Wind III, LLC.

Description: Notice of Non-material Change in Status of Osborn Wind Energy, LLC, et al.

Filed Date: 1/27/17.

Accession Number: 20170127-5149.

Comments Due: 5 p.m. ET 2/17/17.

Docket Numbers: ER16-453-005.

Applicants: Northeast Transmission Development, LLC, PJM Interconnection, L.L.C.

Description: Compliance filing: NTD submits revisions to Att. H-27A re: Settlement Agreement on Nov 17, 2016 to be effective 2/1/2016.

Filed Date: 12/14/16.

Accession Number: 20161214-5228.

Comments Due: 5 p.m. ET 2/6/17.

Docket Numbers: ER17-864-000.

Applicants: Bayshore Solar A, LLC.

Description: Baseline eTariff Filing: Bayshore Solar A, LLC Co-Tenancy Agreement to be effective 1/28/2017.

Filed Date: 1/27/17.

Accession Number: 20170127-5128.

Comments Due: 5 p.m. ET 2/17/17.

Docket Numbers: ER17-865-000.

Applicants: Bayshore Solar B, LLC.

Description: Baseline eTariff Filing: Bayshore Solar B, LLC Co-Tenancy Agreement to be effective 1/28/2017.

Filed Date: 1/27/17.

Accession Number: 20170127-5134.

Comments Due: 5 p.m. ET 2/17/17.

Docket Numbers: ER17-866-000.

Applicants: Bayshore Solar C, LLC.

Description: Baseline eTariff Filing: Bayshore Solar C, LLC Co-Tenancy Agreement to be effective 1/28/2017.

Filed Date: 1/27/17.

Accession Number: 20170127-5137.

Comments Due: 5 p.m. ET 2/17/17.

Docket Numbers: ER17-868-000.

Applicants: California Independent System Operator Corporation.

Description: § 205(d) Rate Filing: 2017-01-27 EIM Implementation Agreement for City of Seattle to be effective 4/1/2017.

Filed Date: 1/27/17.

Accession Number: 20170127-5179.

Comments Due: 5 p.m. ET 2/17/17.

Docket Numbers: ER17-869-000.

Applicants: Essential Power Rock Springs, LLC.

Description: § 205(d) Rate Filing: 2017-01-27 EIM Implementation Agreement for City of Seattle to be effective 4/1/2017.

Filed Date: 1/27/17.

Accession Number: 20170127-5183.

Comments Due: 5 p.m. ET 2/17/17.

Docket Numbers: ER17-870-000.

Applicants: Essential Power OPP, LLC.

Description: § 205(d) Rate Filing: 2017-01-27 EIM Implementation Agreement for City of Seattle to be effective 4/1/2017.

Filed Date: 1/27/17.

Accession Number: 20170127-5191.

Comments Due: 5 p.m. ET 2/17/17.

Docket Numbers: ER17-871-000.

Applicants: Wisconsin Public Service Corporation.

Description: Tariff Cancellation: Cancellation of WPSC—Alger Delta Agreement to be effective 1/27/2017.

Filed Date: 1/27/17.

Accession Number: 20170127-5192.

Comments Due: 5 p.m. ET 2/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2017.
Nathaniel J. Davis, Sr.,
Deputy Secretary.

[FR Doc. 2017-02226 Filed 2-1-17; 8:45 am]

BILLING CODE 6717-01-P